DEPARTMENT OF ENERGY

Federal Energy Regulatory Commission

[Docket No. EL03-114-000]

PG&E National Energy Group, et al., Complainants, v. New England Power Pool, Respondent; Notice of Complaint

April 2, 2003.

Take notice that on March 28, 2003, PG&E National Energy Group, PG&E Generating, USGen New England, Inc., PG&E Energy Trading-Power, L.P. (PG&E NEG) and The United Illuminating Company (collectively referred to as Complainants) filed a Complaint Requesting Fast Track Processing against the New England Power Pool (NEPOOL) requesting that the Federal Energy Regulatory Commission (Commission) invalidate the March 7, 2003 action of the NEPOOL Participants Committee establishing Hydro Quebec Interconnection Capability Credits (HQICCs) for the 2004 Power Year. The complaint also requests the Commission to direct NEPOOL to set HQICCs for the 2004 Power Year at the level previously established for 2003 Power Year on an interim basis until HQICCs can be redetermined in accordance with prior Commission orders and approved by the Commission.

The Complainants state that copies of the complaint were served via facsimile and overnight mail to the Secretary of NEPOOL, as well as electronically for circulation to NEPOOL Participants, and by overnight delivery to the affected state regulatory agencies.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: April 11, 2003.

Magalie R. Salas,
Secretary.

[FR Doc. 03-8472 Filed 4-7-03; 8:45 am]

BILLING CODE 6717-01-P